FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011914-001.

Title: CP/CCNI Med-Gulf Space Charter Agreement.

Parties: CP Ships (USA), LLC and Compania Chilena de Navegacion Interoceanica.

Filing Party: Wayne R. Rohde, Esq.; Sher & Blackwell LLP; 1850 M Street, NW.; Suite 900; Washington, DC 20036.

Synopsis: The amendment deletes CP Ships, adds Hapag-Lloyd Container Linie GmbH, makes corresponding changes throughout the agreement, changes the name of the agreement, and restates the agreement.

Agreement No.: 011963.

Title: Maersk Line/USL Space Charter Agreement.

Parties: A.P. Moller-Maersk A/S and U.S. Lines Limited.

Filing Party: Wayne R. Rohde, Esq.; Sher & Blackwell LLP; 1850 M Street, NW.; Suite 900; Washington, DC 20036.

Synopsis: The agreement would authorize Maersk Line to charter space to USL in the trade between ports on the Pacific Coast of the United States and ports in the People's Republic of China (including Hong Kong) and engage in related cooperative activities.

Agreement No.: 011964.

Title: Maersk Line/MOL Space Charter Agreement.

Parties: A.P. Moller-Maersk A/S (“Maersk Line”) and Mitsui O.S.K. Lines, Ltd. (“MOL”).

Filing Party: Wayne R. Rohde, Esq.; Sher & Blackwell LLP; 1850 M Street, NW.; Suite 900; Washington, DC 20036.

Synopsis: The agreement authorizes Maersk Line to charter space to MOL for the carriage of loaded containers eastbound and for the carriage of empty containers westbound in the Japan-California trade.

Agreement Nos.: 201132-003, -004, -005, -006, -007.

Title: New York/New Jersey-Port Newark Container Terminal LLC Lease (Lease No. L-PN-264).

Parties: The Port Authority of New York and New Jersey and Port Newark Container Terminal LLC.

Filing Party: Patricia W. Duemig; Senior Property Representative; The Port Authority of New York and New Jersey; New Jersey Marine Terminals; 260 Kellogg Street; Port Newark, NJ 07114.

Synopsis: The amendments update the existing lease between the parties to provide for the deepening of the berth, the leasing of certain open areas, and to allow for subleasing and sub-subleasing agreements for specific purposes.

By Order of the Federal Maritime Commission.
Dated: June 23, 2006.
Bryant L. VanBrakle, Secretary.

[FR Doc. 06-5849 Filed 6-27-06; 8:45 am]

BILLING CODE 6730-01-P